POSTAL REGULATORY COMMISSION

[Docket Nos. MC2025-845 and K2025-846; MC2025-869 and K2025-870; MC2025-870 and K2025-871; MC2025-871 and K2025-872; MC2025-872 and K2025-873; MC2025-873 and K2025-874; MC2025-874 and K2025-875; MC2025-875 and K2025-876; MC2025-876 and K2025-877; MC2025-877 and K2025-878; MC2025-878 and K2025-879; MC2025-879 and K2025-880; MC2025-881 and K2025-882; MC2025-887 and K2025-888; MC2025-888 and K2025-889; MC2025-889 and K2025-890; MC2025-890 and K2025-891; MC2025-891 and K2025-892; MC2025-892 and K2025-893; MC2025-893 and K2025-894; MC2025-894 and K2025-895; MC2025-895 and K2025-896; MC2025-896 and K2025-897; MC2025-897 and K2025-898; MC2025-898 and K2025-899; MC2025-899 and K2025-900; MC2025-900 and K2025-901; MC2025-901 and K2025-902; MC2025-902 and K2025-903; MC2025-903 and K2025-904; MC2025-904 and K2025-905; MC2025-905 and K2025-906; MC2025-906 and K2025-907]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 26, 2024.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (https://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-845 and K2025-846; Filing Title: USPS Request to Add Priority Mail Express International, Priority Mail International & First-Class Package International Service Contract 54 to Competitive Product List and Notice of Filing Materials Under Seal; Filing Acceptance Date: December 17, 2024; Filing Authority: 39 U.S.C. 3642, 39 CFR 3035.105, and 39 CFR 3041.310; Public Representative: Katalin Clendenin; Comments Due: December 26, 2024.

2. Docket No(s).: MC2025-869 and K2025-870; Filing Title: USPS Request to Add Priority Mail Express, Priority Mail & USPS Ground Advantage Contract 1094 to the Competitive Product List and Notice of Filing Materials Under Seal; Filing Acceptance Date: December 17, 2024; Filing Authority: 39 U.S.C. 3642, 39 CFR 3035.105, and 39 CFR 3041.310; Public Representative: Maxine Bradley; Comments Due: December 26, 2024.

3. Docket No(s).: MC2025-870 and K2025-871; Filing Title: USPS Request to Add Priority Mail Express, Priority Mail & USPS Ground Advantage Contract 1095 to the Competitive Product List and Notice of Filing Materials Under Seal; Filing Acceptance Date: December 17, 2024; Filing Authority: 39 U.S.C. 3642, 39 CFR 3035.105, and 39 CFR 3041.310; Public Representative: Maxine Bradley; Comments Due: December 26, 2024.

4. Docket No(s).: MC2025-871 and K2025-872; Filing Title: USPS Request to Add Priority Mail Express, Priority Mail & USPS Ground Advantage Contract 1096 to the Competitive Product List and Notice of Filing Materials Under Seal; Filing Acceptance Date: December 17, 2024; Filing Authority: 39 U.S.C. 3642, 39 CFR 3035.105, and 39 CFR 3041.310; Public Representative: Maxine Bradley; Comments Due: December 26, 2024.

5. Docket No(s).: MC2025-872 and K2025-873; Filing Title: USPS Request to Add Priority Mail Express, Priority Mail & USPS Ground Advantage Contract 1097 to the Competitive Product List and Notice of Filing Materials Under Seal; Filing Acceptance Date: December 17, 2024; Filing Authority: 39 U.S.C. 3642, 39 CFR 3035.105, and 39 CFR 3041.310; Public Representative: Maxine Bradley; Comments Due: December 26, 2024.

6. Docket No(s).: MC2025-873 and K2025-874; Filing Title: USPS Request to Add Priority Mail Express, Priority Mail & USPS Ground Advantage Contract 1098 to the Competitive Product List and Notice of Filing Materials Under Seal; Filing Acceptance Date: December 17, 2024; Filing Authority: 39 U.S.C. 3642, 39 CFR 3035.105, and 39 CFR 3041.310; Public Representative: Maxine Bradley; Comments Due: December 26, 2024.

7. Docket No(s).: MC2025-874 and K2025-875; Filing Title: USPS Request to Add Priority Mail Express, Priority Mail & USPS Ground Advantage Contract 1099 to the Competitive Product List and Notice of Filing Materials Under Seal; Filing Acceptance Date: December 17, 2024; Filing Authority: 39 U.S.C. 3642, 39 CFR 3035.105, and 39 CFR 3041.310; Public Representative: Arif Hafiz; Comments Due: December 26, 2024.

8. Docket No(s).: MC2025-875 and K2025-876; Filing Title: USPS Request to Add Priority Mail Express, Priority Mail & USPS Ground Advantage Contract 1100 to the Competitive Product List and Notice of Filing Materials Under Seal; Filing Acceptance Date: December 17, 2024; Filing Authority: 39 U.S.C. 3642, 39 CFR 3035.105, and 39 CFR 3041.310; Public Representative: Christopher Mohr; Comments Due: December 26, 2024.

9. Docket No(s).: MC2025-876 and K2025-877; Filing Title: USPS Request to Add Priority Mail Express, Priority Mail & USPS Ground Advantage Contract 1101 to the Competitive Product List and Notice of Filing Materials Under Seal; Filing Acceptance Date: December 17, 2024; Filing Authority: 39 U.S.C. 3642, 39 CFR 3035.105, and 39 CFR 3041.310; Public Representative: Christopher Mohr; Comments Due: December 26, 2024.

10. Docket No(s).: MC2025-877 and K2025-878; Filing Title: USPS Request to Add Priority Mail Express, Priority Mail & USPS Ground Advantage Contract 1102 to the Competitive Product List and Notice of Filing Materials Under Seal; Filing Acceptance Date: December 17, 2024; Filing Authority: 39 U.S.C. 3642, 39 CFR 3035.105, and 39 CFR 3041.310; Public Representative: Jennaca Upperman; Comments Due: December 26, 2024.

11. Docket No(s).: MC2025-878 and K2025-879; Filing Title: USPS Request to Add Priority Mail Express, Priority Mail & USPS Ground Advantage Contract 1103 to the Competitive Product List and Notice of Filing Materials Under Seal; Filing Acceptance Date: December 17, 2024; Filing Authority: 39 U.S.C. 3642, 39 CFR 3035.105, and 39 CFR 3041.310; Public Representative: Christopher Mohr; Comments Due: December 26, 2024.

12. Docket No(s).: MC2025-879 and K2025-880; Filing Title: USPS Request to Add Priority Mail Express, Priority Mail & USPS Ground Advantage Contract 1104 to the Competitive Product List and Notice of Filing Materials Under Seal; Filing Acceptance Date: December 17, 2024; Filing Authority: 39 U.S.C. 3642, 39 CFR 3035.105, and 39 CFR 3041.310; Public Representative: Jennaca Upperman; Comments Due: December 26, 2024.

13. Docket No(s).: MC2025-881 and K2025-882; Filing Title: USPS Request to Add Priority Mail Express, Priority Mail & USPS Ground Advantage Contract 1106 to the Competitive Product List and Notice of Filing Materials Under Seal; Filing Acceptance Date: December 17, 2024; Filing Authority: 39 U.S.C. 3642, 39 CFR 3035.105, and 39 CFR 3041.310; Public Representative: Christopher Mohr; Comments Due: December 26, 2024.

14. Docket No(s).: MC2025-887 and K2025-888; Filing Title: USPS Request to Add Priority Mail Express, Priority Mail & USPS Ground Advantage Contract 1108 to the Competitive Product List and Notice of Filing Materials Under Seal; Filing Acceptance Date: December 17, 2024; Filing Authority: 39 U.S.C. 3642, 39 CFR 3035.105, and 39 CFR 3041.310; Public Representative: Maxine Bradley; Comments Due: December 26, 2024.

15. Docket No(s).: MC2025-888 and K2025-889; Filing Title: USPS Request to Add Priority Mail Express, Priority Mail & USPS Ground Advantage Contract 1109 to the Competitive Product List and Notice of Filing Materials Under Seal; Filing Acceptance Date: December 17, 2024; Filing Authority: 39 U.S.C. 3642, 39 CFR 3035.105, and 39 CFR 3041.310; Public Representative: Arif Hafiz; Comments Due: December 26, 2024.

16. Docket No(s).: MC2025-889 and K2025-890; Filing Title: USPS Request to Add Priority Mail Express, Priority Mail & USPS Ground Advantage Contract 1110 to the Competitive Product List and Notice of Filing Materials Under Seal; Filing Acceptance Date: December 17, 2024; Filing Authority: 39 U.S.C. 3642, 39 CFR 3035.105, and 39 CFR 3041.310; Public Representative: Arif Hafiz; Comments Due: December 26, 2024.

17. Docket No(s).: MC2025-890 and K2025-891; Filing Title: USPS Request to Add Priority Mail Express, Priority Mail & USPS Ground Advantage Contract 1111 to the Competitive Product List and Notice of Filing Materials Under Seal; Filing Acceptance Date: December 17, 2024; Filing Authority: 39 U.S.C. 3642, 39 CFR 3035.105, and 39 CFR 3041.310; Public Representative: Jennaca Upperman; Comments Due: December 26, 2024.

18. Docket No(s).: MC2025-891 and K2025-892; Filing Title: USPS Request to Add Priority Mail Express, Priority Mail & USPS Ground Advantage Contract 1112 to the Competitive Product List and Notice of Filing Materials Under Seal; Filing Acceptance Date: December 17, 2024; Filing Authority: 39 U.S.C. 3642, 39 CFR 3035.105, and 39 CFR 3041.310; Public Representative: Christopher Mohr; Comments Due: December 26, 2024.

19. Docket No(s).: MC2025-892 and K2025-893; Filing Title: USPS Request to Add Priority Mail Express, Priority Mail & USPS Ground Advantage Contract 1113 to the Competitive Product List and Notice of Filing Materials Under Seal; Filing Acceptance Date: December 17, 2024; Filing Authority: 39 U.S.C. 3642, 39 CFR 3035.105, and 39 CFR 3041.310; Public Representative: Arif Hafiz; Comments Due: December 26, 2024.

20. Docket No(s).: MC2025-893 and K2025-894; Filing Title: USPS Request to Add Priority Mail Express, Priority Mail & USPS Ground Advantage Contract 1114 to the Competitive Product List and Notice of Filing Materials Under Seal; Filing Acceptance Date: December 17, 2024; Filing Authority: 39 U.S.C. 3642, 39 CFR 3035.105, and 39 CFR 3041.310; Public Representative: Arif Hafiz; Comments Due: December 26, 2024.

21. Docket No(s).: MC2025-894 and K2025-895; Filing Title: USPS Request to Add Priority Mail Express, Priority Mail & USPS Ground Advantage Contract 1115 to the Competitive Product List and Notice of Filing Materials Under Seal; Filing Acceptance Date: December 17, 2024; Filing Authority: 39 U.S.C. 3642, 39 CFR 3035.105, and 39 CFR 3041.310; Public Representative: Christopher Mohr; Comments Due: December 26, 2024.

22. Docket No(s).: MC2025-895 and K2025-896; Filing Title: USPS Request to Add Priority Mail Express, Priority Mail & USPS Ground Advantage Contract 1116 to the Competitive Product List and Notice of Filing Materials Under Seal; Filing Acceptance Date: December 17, 2024; Filing Authority: 39 U.S.C. 3642, 39 CFR 3035.105, and 39 CFR 3041.310; Public Representative: Christopher Mohr; Comments Due: December 26, 2024.

23. Docket No(s).: MC2025-896 and K2025-897; Filing Title: USPS Request to Add Priority Mail Express, Priority Mail & USPS Ground Advantage Contract 1117 to the Competitive Product List and Notice of Filing Materials Under Seal; Filing Acceptance Date: December 17, 2024; Filing Authority: 39 U.S.C. 3642, 39 CFR 3035.105, and 39 CFR 3041.310; Public Representative: Jana Slovinska; Comments Due: December 26, 2024.

24. Docket No(s).: MC2025-897 and K2025-898; Filing Title: USPS Request to Add Priority Mail Express, Priority Mail & USPS Ground Advantage Contract 1118 to the Competitive Product List and Notice of Filing Materials Under Seal; Filing Acceptance Date: December 17, 2024; Filing Authority: 39 U.S.C. 3642, 39 CFR 3035.105, and 39 CFR 3041.310; Public Representative: Christopher Mohr; Comments Due: December 26, 2024.

25. Docket No(s).: MC2025-898 and K2025-899; Filing Title: USPS Request to Add Priority Mail Express, Priority Mail & USPS Ground Advantage Contract 1119 to the Competitive Product List and Notice of Filing Materials Under Seal; Filing Acceptance Date: December 17, 2024; Filing Authority: 39 U.S.C. 3642, 39 CFR 3035.105, and 39 CFR 3041.310; Public Representative: Jennaca Upperman; Comments Due: December 26, 2024.

26. Docket No(s).: MC2025-899 and K2025-900; Filing Title: USPS Request to Add Priority Mail & USPS Ground Advantage Contract 554 to the Competitive Product List and Notice of Filing Materials Under Seal; Filing Acceptance Date: December 17, 2024; Filing Authority: 39 U.S.C. 3642, 39 CFR 3035.105, and 39 CFR 3041.310; Public Representative: Jennaca Upperman; Comments Due: December 26, 2024.

27. Docket No(s).: MC2025-900 and K2025-901; Filing Title: USPS Request to Add Priority Mail Express, Priority Mail & USPS Ground Advantage Contract 1120 to the Competitive Product List and Notice of Filing Materials Under Seal; Filing Acceptance Date: December 17, 2024; Filing Authority: 39 U.S.C. 3642, 39 CFR 3035.105, and 39 CFR 3041.310; Public Representative: Christopher Mohr; Comments Due: December 26, 2024.

28. Docket No(s).: MC2025-901 and K2025-902; Filing Title: USPS Request to Add Priority Mail Express, Priority Mail & USPS Ground Advantage Contract 1121 to the Competitive Product List and Notice of Filing Materials Under Seal; Filing Acceptance Date: December 17, 2024; Filing Authority: 39 U.S.C. 3642, 39 CFR 3035.105, and 39 CFR 3041.310; Public Representative: Jennaca Upperman; Comments Due: December 26, 2024.

29. Docket No(s).: MC2025-902 and K2025-903; Filing Title: USPS Request to Add Priority Mail & USPS Ground Advantage Contract 555 to the Competitive Product List and Notice of Filing Materials Under Seal; Filing Acceptance Date: December 17, 2024; Filing Authority: 39 U.S.C. 3642, 39 CFR 3035.105, and 39 CFR 3041.310; Public Representative: Jennaca Upperman; Comments Due: December 26, 2024.

30. Docket No(s).: MC2025-903 and K2025-904; Filing Title: USPS Request to Add Priority Mail Express, Priority Mail & USPS Ground Advantage Contract 1122 to the Competitive Product List and Notice of Filing Materials Under Seal; Filing Acceptance Date: December 17, 2024; Filing Authority: 39 U.S.C. 3642, 39 CFR 3035.105, and 39 CFR 3041.310; Public Representative: Arif Hafiz; Comments Due: December 26, 2024.

31. Docket No(s).: MC2025-904 and K2025-905; Filing Title: USPS Request to Add Priority Mail Express, Priority Mail & USPS Ground Advantage Contract 1123 to the Competitive Product List and Notice of Filing Materials Under Seal; Filing Acceptance Date: December 17, 2024; Filing Authority: 39 U.S.C. 3642, 39 CFR 3035.105, and 39 CFR 3041.310; Public Representative: Jennaca Upperman; Comments Due: December 26, 2024.

32. Docket No(s).: MC2025-905 and K2025-906; Filing Title: USPS Request to Add Priority Mail Express, Priority Mail & USPS Ground Advantage Contract 1124 to the Competitive Product List and Notice of Filing Materials Under Seal; Filing Acceptance Date: December 17, 2024; Filing Authority: 39 U.S.C. 3642, 39 CFR 3035.105, and 39 CFR 3041.310; Public Representative: Jana Slovinska; Comments Due: December 26, 2024.

33. Docket No(s).: MC2025-906 and K2025-907; Filing Title: USPS Request to Add Priority Mail Express, Priority Mail & USPS Ground Advantage Contract 1125 to the Competitive Product List and Notice of Filing Materials Under Seal; Filing Acceptance Date: December 17, 2024; Filing Authority: 39 U.S.C. 3642, 39 CFR 3035.105, and 39 CFR 3041.310; Public Representative: Almaroof Agoro; Comments Due: December 26, 2024.

III. Summary Proceeding(s)

None. See Section II for public proceedings.

This Notice will be published in the Federal Register.

Erica A. Barker,
Secretary.

[FR Doc. 2024-30609 Filed 12-20-24; 8:45 am]

BILLING CODE 7710-FW-P